DEPARTMENT OF TRANSPORTATION

Federal Aviation Administration

14 CFR Part 39

[Docket No. 2003-NM-30-AD; Amendment 39-13492; AD 2004-04-11]

RIN 2120-AA64

Airworthiness Directives; Dassault Model Mystere-Falcon 50 Series Airplanes

AGENCY: Federal Aviation Administration, DOT.

ACTION: Final rule.

SUMMARY: This amendment adopts a new airworthiness directive (AD), applicable to certain Dassault Model Mystere-Falcon 50 series airplanes, that requires applying PR (fuel tank sealant) and installing PR patches over the internal side panel recesses of the left-hand and right-hand feeder tanks at certain frames and stringers. This action is necessary to prevent possible fuel ignition in the event of a lightning strike and consequent uncontained rupture of the fuel tank(s). This action is intended to address the identified unsafe condition.

DATES: Effective April 5, 2004.

The incorporation by reference of certain publications listed in the regulations is approved by the Director of the Federal Register as of April 5, 2004.

ADDRESSES: The service information referenced in this AD may be obtained from Dassault Falcon Jet, PO Box 2000, South Hackensack, New Jersey 07606. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer; International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Dassault Model Mystere-Falcon 50 series airplanes was published in the Federal Register on November 18, 2003 (68 FR 65005). That action proposed to require applying PR (fuel tank sealant) and installing PR patches over the internal side panel recesses of the left-hand and right-hand feeder tanks at certain frames and stringers.

Comments

Interested persons have been afforded an opportunity to participate in the making of this amendment. Due consideration has been given to the comments received from one commenter.

Request To Revise Statement of Unsafe Condition

The commenter, the airplane manufacturer, requests that the wording of the unsafe condition in the Summary and Discussion sections of the proposed AD be changed. The commenter requests that the FAA change the wording to emphasize that the current design conforms to the certification basis, but that a design improvement has been developed. The French airworthiness directive which parallels the proposed AD states that the French airworthiness directive was issued because “Analysis of an in-service incident has shown the need to improve the resistance of the feeder tank skins to direct lightning effects.” The commenter acknowledges that an unsafe condition does exist.

The FAA partially agrees with the commenter. The unsafe condition as stated in the proposed AD is “This action is necessary to prevent fuel ignition in the event of a lightning strike and consequent uncontained rupture of the fuel tank(s).” We acknowledge that this statement could be interpreted to mean that each time the feeder tank panels were struck by lightning, the result would be fuel ignition and rupture of the fuel tanks(s) due to a problem with the current design of the fuel feeder tanks. We acknowledge that this result may not occur in all cases. However, conformity to the approved type design is not relevant in this situation. An unsafe condition has been identified based on an in-service event. The airworthiness authority for the state of design has issued an airworthiness directive mandating corrective action. We conclude that based on the authority's action the required corrective action is more than a design improvement. The unsafe condition statement in the Summary and body of this final rule will be changed to state that this action is necessary to “prevent possible fuel ignition in the event of a lightning strike and consequent uncontained rupture of the fuel tank(s).” The Discussion section is not restated in this final rule, so no change to the final rule is necessary in this regard.

Request To Revise Cost Impact

The same commenter states that the figures in the Cost Impact section of the proposed AD do not match the figures in Dassault Document DGT-DTF/NAV 89815, dated December 20, 2002.

From this comment we infer that the commenter is requesting that the Cost Impact section of the proposed AD be revised. We do not concur. The figures in Dassault Document DGT-DTF/NAV 89815 include work hours for preparing an airplane (including degreasing and cleaning) for the application of PR (fuel tank sealant) and installation of PR patches, and checking/testing the airplane after accomplishment of those actions. As stated in the proposed AD, “the cost impact figures represent only the time necessary to perform the specific actions actually required by the AD. These figures typically do not include incidental costs, such as the time required to gain access and close up, planning time, or time necessitated by other administrative actions.” Application of PR and installation of PR patches are the specific actions required by the proposed AD; the other actions are incidental. We have not changed this final rule regarding this issue.

Conclusion

After careful review of the available data, including the comments noted above, the FAA has determined that air safety and the public interest require the adoption of the rule with the change described previously. The FAA has determined that these changes will neither increase the economic burden on any operator nor increase the scope of the AD.

Cost Impact

We estimate that 213 airplanes of U.S. registry will be affected by this AD, that it will take approximately 40 work hours per airplane to accomplish the required actions, and that the average labor rate is $65 per work hour. Required parts will cost approximately $5,890 per airplane. Based on these figures, the cost impact of the AD on U.S. operators is estimated to be $1,808,370, or $8,490 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-04-11 Dassault Aviation: Amendment 39-13492. Docket 2003-NM-30-AD

Applicability: Model Mystere-Falcon 50 series airplanes, certificated in any category, except those airplanes on which Dassault Modification M2491 or Dassault Modification M673 has been implemented.

Compliance: Required as indicated, unless accomplished previously.

To prevent possible fuel ignition in the event of a lightning strike and consequent uncontained rupture of the fuel tank(s), accomplish the following:

Installation

(a) Within 18 months from the effective date of this AD, apply PR (fuel tank sealant) and install PR patches over the internal side-panel recesses of the left-hand and right-hand feeder tanks between frame 28 and frame 31 and from stringer 5 to stringer 13, in accordance with the Accomplishment Instructions of Dassault Service Bulletin F50-415, dated November 27, 2002. Although the service bulletin referenced in this AD specifies to submit certain information to the manufacturer, this AD does not include such a requirement.

Alternative Methods of Compliance

(b) In accordance with 14 CFR 39.19, the Manager, International Branch, ANM-116, Transport Airplane Directorate, FAA, is authorized to approve alternative methods of compliance for this AD.

Incorporation by Reference

(c) The actions shall be done in accordance with Dassault Service Bulletin F50-415, dated November 27, 2002. This incorporation by reference was approved by the Director of the Federal Register in accordance with 5 U.S.C. 552(a) and 1 CFR part 51. Copies may be obtained from Dassault Falcon Jet, PO Box 2000, South Hackensack, New Jersey 07606. Copies may be inspected at the FAA, Transport Airplane Directorate, 1601 Lind Avenue, SW., Renton, Washington; or at the Office of the Federal Register, 800 North Capitol Street, NW., suite 700, Washington, DC.

Note 1: The subject of this AD is addressed in French airworthiness directive, dated 2002-595(B), dated November 27, 2002.

Effective Date

(d) This amendment becomes effective on April 5, 2004.

Issued in Renton, Washington, on February 20, 2002.
Ali Bahrami,
Acting Manager, Transport Airplane Directorate, Aircraft Certification Service.

[FR Doc. 04-4254 Filed 2-27-04; 8:45 am]

BILLING CODE 4910-13-P